DEPARTMENT OF THE INTERIOR

National Park Service

30-Day Notice of Submission of Study Package to the Office of Management and Budget; Opportunity for Public Comment (OMB# 1024-xxxx, “Visibility Valuation in National Parks and Wilderness Areas: Pre-Test and Pilot Test”)

AGENCY: National Park Service, Department of the Interior.

ACTION: Notice and request for comments.

SUMMARY: Under the provisions of the Paperwork Reduction Act of 1995 and 5 CFR Part 1320, Reporting and Recordkeeping Requirements, the National Park Service (NPS) invites public comments on a proposed new collection of information (OMB# 1024-xxxx). The 30-Day Federal Register Notice for this collection of information was published on August 10, 2007 (Volume 72, Number 154, Pages 45066-45067), was published in error and should be recognized as an incorrect version. The correct publication of the 30-Day Federal Register Notice for this collection of information will be published on August 28, 2007, and should be recognized as the correct version. If you have any questions or concerns regarding this matter, please contact Mr. Leonard E. Stowe, NPS, Information Collection Clearance Officer, 1849 C St., NW. (2605), Washington, DC 20240; or via fax at 202/371-1427; or via e-mail at leonard_stowe@nps.gov.

Dated: August 22, 2007.
Leonard E. Stowe,
NPS, Information Collection Clearance Officer.

[FR Doc. 07-4272 Filed 8-30-07; 8:45 am]

BILLING CODE 4312-53-M